DEPARTMENT OF THE INTERIOR

Bureau of Land Management

[LLWO320000 L13300000.PP0000 12X]

Renewal of Approved Information Collection; OMB Control No. 1004-0121

AGENCY: Bureau of Land Management, Interior.

ACTION: 30-Day notice and request for comments.

SUMMARY: The Bureau of Land Management (BLM) has submitted an information collection request to the Office of Management and Budget (OMB) to continue the collection of information regarding authorizations pertaining to solid minerals other than coal and oil shale. The Office of Management and Budget (OMB) previously approved this information collection activity, and assigned it control number 1004-0121.

DATES: The OMB is required to respond to this information collection request within 60 days but may respond after 30 days. For maximum consideration, written comments should be received on or before April 29, 2016.

ADDRESSES: Please submit comments directly to the Desk Officer for the Department of the Interior (OMB #1004-0121), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0121” regardless of the form of your comments.

FOR FURTHER INFORMATION CONTACT: Vince Vogt, at 202-912-7125. Persons who use a telecommunication device for the deaf may call the Federal Information Relay Service at 1-800-877-8339, to leave a message for Mr. Vogt. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on September 16, 2015 (80 FR 55640), and the comment period ended November 16, 2015. The BLM received no comments.

The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0121 in your correspondence. Before including your address, phone number, email address, or other personal identifying information in your comment, you should be aware that your entire comment—including your personal identifying information—may be made publicly available at any time. While you can ask us in your comment to withhold your personal identifying information from public review, we cannot guarantee that we will be able to do so.

The following information pertains to this request:

Title: Leasing of Solid Minerals Other Than Coal and Oil Shale (43 CFR parts 3500, 3580, and 3590).

OMB Control Number: 1004-0121.

Abstract: This control number enables the BLM to fulfill its responsibilities regarding prospecting permits, exploration licenses, leases, the exchange of leases, use permits, and the regulation of mining activities for solid minerals other than coal or oil shale. The information activities currently approved under control number 1004-0121 include requirements that an applicant, a permittee or a lessee submit information that enables the BLM to:

• Determine if applicants, permittees, and lessees meet qualification criteria;

• Assure compliance with various other legal requirements relating to the leasing of solid minerals other than coal or oil shale;

• Gather data needed to determine the environmental impacts of developing solid leasable minerals other than coal or oil shale;

• Maintain accurate leasing records; and

• Oversee and manage the leasing of solid minerals other than coal or oil shale.

Forms:

Form 3504-1, Personal Bond and Power of Attorney;

Form 3504-3, Bond under Lease;

Form 3504-4, Statewide or Nationwide Personal Mineral Bond;

Form 3510-1, Prospecting Application and Permit;

Form 3510-2, Phosphate or Sodium Use Permit; and

Form 3520-7, Lease.

Frequency of Collection: On occasion.

Description of Respondents: Applicants for, and holders of, the following authorizations in connection with solid minerals other than coal or oil shale:

• Prospecting permits;

• Exploration licenses;

• Leases; and

• Use permits.

Obligation to Respond: To obtain or retain a benefit.

Estimated Annual Responses: 473.

Estimated Annual Burden Hours: 16,346.

The following table itemizes the estimated burden hours:

Type of response | Number of responses | Hours per response | Total hours (Column B × Column C)
A. | B. | C. | D.
Request for Effective Date, 43 CFR 3501.20 | 10 | 1 | 10
Qualification Requirements/Individuals or Households, Guardians or Trustees, Heirs, and Devisees, 43 CFR 3502.27, 3502.29, 3502.33, 3502.34, and 3502.40 | 3 | 2 | 6
Qualification Requirements/Associations and Partnerships, 43 CFR 3502.28, 3502.33, and 3502.34 | 3 | 2 | 6
Qualification Requirements/Corporations, 43 CFR 3502.30, 3502.33, and 3502.34 | 44 | 2 | 88
Surface Owner Consultation/State or Local Government, 43 CFR 3503.21(b) | 1 | 2 | 2
Surface Owner Consultation/Educational, Charitable, or Religious Organization, 43 CFR 3503.21(b) | 2 | 2 | 4
Applicant's Land Description, 43 CFR 3503.30 through 3503.32 | 50 | 2 | 100
Bonding, 43 CFR 3504.50 through 3504.71, Forms 3504-1, 3504-3, and 3504-4 | 40 | 4 | 160
Application for a Prospecting Permit, 43 CFR 3505.12 and 3505.13, Form 3510-1 | 50 | 10 | 500
Amendment or Withdrawal of an Application for Prospecting Permit, 43 CFR 3505.30 and 3505.31 | 10 | 5 | 50
Exploration Plan, 43 CFR 3505.40, 3505.45, and 3592.1(a) | 25 | 400 | 10,000
Application to Extend a Prospecting Permit, 43 CFR 3505.60 through 3505.66 | 5 | 40 | 200
Application for an Exploration License, 43 CFR 3506.11 through 3506.25 | 4 | 10 | 40
Application for a Preference Right Lease, 43 CFR 3507.11 through 3507.19, Form 3520-7 | 2 | 300 | 600
Application for a Competitive Lease, 43 CFR 3508.12 through 3508.22 | 5 | 20 | 100
Application for a Fractional or Future Interest Lease, 43 CFR 3509.10 through 3509.51 | 1 | 80 | 80
Application for a Fringe Acreage Lease or Lease Modification, (43 CFR 3510.12) | 10 | 20 | 200
Objection to Proposed Readjustment of Lease Terms and Conditions, 43 CFR 3511.25 and 3511.26 | 20 | 2 | 40
Request for Renewal of a Lease, 43 CFR 3511.27 | 20 | 2 | 40
Assignment, Sublease, or Transfer, 43 CFR 3512.11 through 3512.17 | 30 | 6 | 180
Application for Waiver, Suspension, or Reduction of Rental or Minimum Royalties, or for a Reduction in the Royalty Rate, 43 CFR 3513.11 through 3513.26 | 2 | 100 | 200
Lease Relinquishment, 43 CFR 3514.11 through 3514.21 | 10 | 40 | 400
Mineral Lease Exchange, 43 CFR 3515.23 through 3515.27 | 1 | 40 | 40
Application for a Use Permit, 43 CFR 3516.15 through 3516.30, Form 3510-2 | 1 | 10 | 10
Application for Approval of a Hardrock Mineral Development Contract or Processing or Milling Arrangement, 43 CFR 3517.15 | 1 | 20 | 20
Application for a Gold, Silver, or Quicksilver Lease in a Confirmed Private Land Grant, 43 CFR 3581.3 and 3581.4, Form 3520-7 | 1 | 20 | 20
Application for a Hardrock Mineral Lease in the Shasta and Trinity Units of the Whiskeytown-Shasta-Trinity National Recreation Area, 43 CFR 3583.3 | 1 | 20 | 20
Application for a Mineral Lease in the White Mountain National Recreation Area, 43 CFR 3585.3-2 | 1 | 20 | 20
Mining Plan, 43 CFR 3592.1 through 3592.3 | 5 | 300 | 1,500
Modification of an Exploration or Mining Plan, 43 CFR 3592.1(d) | 10 | 150 | 1,500
Data on Bore Holes and Samples, 43 CFR 3593.1 | 25 | 2 | 50
Production Records, 43 CFR 3597.1 and 3597.2 | 80 | 2 | 160
Totals | 473 |  | 16,346

Dated: March 23, 2016.
Jean Sonneman,
Bureau of Land Management Information Collection Clearance Officer.

[FR Doc. 2016-07164 Filed 3-29-16; 8:45 am]

BILLING CODE 4310-84-P